DEPARTMENT OF HOMELAND SECURITY

Coast Guard

[Docket No. USCG-2007-0063]

National Maritime Security Advisory Committee Meeting

AGENCY: Coast Guard, DHS.

ACTION: Notice of meeting.

SUMMARY: The National Maritime Security Advisory Committee (NMSAC), will meet in San Ramon, California to discuss various issues relating to national maritime security. This meeting will be open to the public.

DATES: The Committee will meet on Thursday, December 6, 2007, from 9:30 a.m. to 4 p.m. This meeting may close early if all business is finished. Written material and requests to make oral presentations should reach the Coast Guard on or before November 23, 2007. Requests to have a copy of your material distributed to each member of the committee or subcommittee should reach the Coast Guard on or before November 23, 2007.

ADDRESSES: The Committee will meet in Salon D at the Marriott San Ramon Hotel, 2600 Bishop Drive, San Ramon, California 94583. Send written material and requests to make oral presentations to Captain Mark O'Malley, Commandant (CG-544), Executive Director of NMSAC, U.S. Coast Guard Headquarters, Room 5302, 2100 2ND Street SW., Washington, DC 20593-0001. This notice is available in our online docket, USCG-2007-0063, at http://www.regulations.gov.

FOR FURTHER INFORMATION CONTACT: Mr. Ryan Owens, Assistant to Executive Director of NMSAC; at (202) 372-1108.

SUPPLEMENTARY INFORMATION: Notice of this meeting is given under the Federal Advisory Committee Act, 5 U.S.C. App. (Pub. L. 92-463).

Agenda of Meeting

The tentative agenda for the December 6, 2007 Committee meeting is as follows:

(1) Welcome and opening remarks; introduction of new Executive Assistant.

(2) Old Committee Action Items.

(3) Update from the Transportation Workers Identification Card (TWIC) Workgroup.

(4) Miscellaneous Updates on: the Maritime Sector Coordinating Council; USCG/CBP Joint Recovery Protocols for the Resumption of Trade; USCG NVIC 9-02 Ch 3,revisisions to Area Maritime Security Committee guidance and planning requirements per the SAFE Port Act; USCG's Container Inspection program and Status of the TWIC program.

(5) Public Comments.

(6) New Committee Action Items.

(7) Closing Remarks.

Procedural

This meeting is open to the public. Please note that the meeting may close early if all business is finished. At the Chair's discretion, members of the public may make oral presentations during the meeting. If you would like to make an oral presentation at a meeting, please notify the Executive Director no later than November 23, 2007. Written material for distribution at a meeting should reach the Coast Guard no later than November 23, 2007. If you would like a copy of your material distributed to each member of the committee or subcommittee in advance of a meeting, please submit 25 copies to the Executive Director no later than November 23, 2007.

Information on Services for Individuals With Disabilities

For information on facilities or services for individuals with disabilities or to request special assistance at the meeting, contact the Executive Director as soon as possible.

Dated: November 5, 2007.
M. P. O'Malley,
Captain, U.S. Coast Guard, Chief, Office of Port and Facility Activities, Designated Federal Official, NMSAC.

[FR Doc. E7-22355 Filed 11-14-07; 8:45 am]

BILLING CODE 4910-15-P